DEPARTMENT OF COMMERCE

National Oceanic and Atmospheric Administration

50 CFR Part 622

[Docket No. 100217097-0101-01]

RIN 0648-AY22

Fisheries of the Caribbean, Gulf of Mexico, and South Atlantic; Generic Annual Catch Limits/Accountability Measures Amendment for the Gulf of Mexico

AGENCY: National Marine Fisheries Service (NMFS), National Oceanic and Atmospheric Administration (NOAA), Commerce.

ACTION: Proposed rule; request for comments.

SUMMARY: NMFS proposes regulations to implement the Generic Annual Catch Limits/Accountability Measures Amendment (Generic ACL Amendment) to the Reef Fish Resources, Red Drum, Shrimp, and Coral and Coral Reefs Fishery Management Plans for the Gulf of Mexico (FMPs) as prepared and submitted by the Gulf of Mexico Fishery Management Council (Council). If implemented, this rule would allow management of selected species by other Federal and/or state agencies; remove species not currently in need of Federal management from the FMPs; develop species groups; modify framework procedures; establish annual catch limits (ACLs); and establish accountability measures (AMs). The intent of this rule is to specify ACLs for species not undergoing overfishing while maintaining catch levels consistent with achieving optimum yield (OY) for the resource.

DATES: Written comments must be received on or before November 18, 2011.

ADDRESSES: You may submit comments on the proposed rule identified by “NOAA-NMFS-2011-0143” by any of the following methods:

• Electronic submissions: Submit electronic comments via the Federal e-Rulemaking Portal: http://www.regulations.gov. Follow the instructions for submitting comments.

• Mail: Rich Malinowski, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, click on “submit a comment,” then enter “NOAA-NMFS-2011-0143” in the keyword search and click on “search.” To view posted comments during the comment period, enter “NOAA-NMFS-2011-0143” in the keyword search and click on “search.” NMFS will accept anonymous comments (enter N/A in the required field if you wish to remain anonymous). You may submit attachments to electronic comments in Microsoft Word, Excel, WordPerfect, or Adobe PDF file formats only.

Comments through means not specified in this rule will not be accepted.

Electronic copies of the Generic ACL Amendment, which includes a final environmental impact statement (FEIS), an initial regulatory flexibility analysis (IRFA), and a regulatory impact review, may be obtained from the Southeast Regional Office Web Site at http://sero.nmfs.noaa.gov.

FOR FURTHER INFORMATION CONTACT: Rich Malinowski, Southeast Regional Office, NMFS, telephone 727-824-5305; e-mail: Rich.Malinowski@noaa.gov.

SUPPLEMENTARY INFORMATION: The fisheries for reef fish, red drum, shrimp, and coral and coral reefs of the Gulf of Mexico (Gulf) are managed under their respective FMPs. The FMPs were prepared by the Council and are implemented through regulations at 50 CFR part 622 under the authority of the Magnuson-Stevens Fishery Conservation and Management Act (Magnuson-Stevens Act).

Background

The 2006 revisions to the Magnuson-Stevens Act require that by 2011, for fisheries determined by the Secretary of Commerce (Secretary) to not be subject to overfishing, NMFS establish ACLs and AMs at a level that prevents overfishing and helps to achieve OY. This mandate is intended to ensure fishery resources are managed for the greatest overall benefit to the nation, particularly with respect to providing food production and recreational opportunities, and protecting marine ecosystems.

Management Measures Contained in This Proposed Rule

By removing selected stocks from certain FMPs, this rule would defer to other entities management of those stocks. The rule would also remove 10 species that do not require conservation and management from the Reef Fish FMP; create and revise the species groupings for reef fish; modify the framework procedures; and establish ACLs and AMs for the required species within the Generic ACL Amendment.

Defer to Other Entities Management of Selected Stocks

Some stocks currently managed by FMPs are uncommon in Gulf Federal waters. These stocks are also primarily harvested within areas under the jurisdiction of the South Atlantic Fishery Management Council (South Atlantic Council). National Standard 7 of the Magnuson-Stevens Act states that, to the extent practicable, conservation and management measures shall avoid unnecessary duplication. The proposed rule would remove Nassau grouper from the Reef Fish FMP, and the Council will request that the Secretary designate the South Atlantic Council as the responsible council for Nassau grouper. If this provision of the Generic ACL Amendment is approved and the South Atlantic Council is designated as the lead council, the South Atlantic Council will need to amend its Snapper-Grouper FMP to extend authority over Nassau grouper into Gulf Federal waters. Given the time necessary to implement these measures, NMFS intends to delay the effective date for removing the prohibition on the harvest of Nassau grouper until the South Atlantic Council has implemented the changes to the Snapper-Grouper FMP. This delay will prevent any lapse in the protective regulations necessary for the species. Similarly, the rule would remove octocorals from the Coral and Coral Reefs FMP. Most octocorals are harvested in waters under the jurisdiction of the South Atlantic Council, which will continue to manage octocorals in their region. Octocorals harvested in the Gulf are primarily taken in Florida state waters; Florida manages octocorals in its state waters, and has notified the Council that it will assume management of octocorals in Gulf Federal waters as well.

Removal of Stocks From Reef Fish Fishery Management Plan

Approximately 50 species of fish are under consideration for management actions in the Generic ACL Amendment. Many uncommonly harvested species were originally placed in fishery management plans for data monitoring purposes, rather than because they were considered to be in need of Federal management. This rule would remove 10 of the less frequently landed species in the Reef Fish FMP, because the Council determined these species are not in need of Federal management. Species proposed for removal include those species for which average landings are less than 15,000 lb (6,804 kg) annually, or that are harvested primarily in state waters, and include: anchor tilefish, misty grouper, sand perch, dwarf sand perch, blackline tilefish, schoolmaster, red hind, rock hind, dog snapper, and mahogany snapper.

Species Groupings

In some cases, groups of stocks share a common habitat and are caught with the same gear in the same area at the same time. Some species groupings, such as shallow-water grouper (SWG), deep-water grouper (DWG), and tilefishes, are already managed in in Gulf Federal water. The Council determined that grouping together species with similar fishery characteristics would allow for more effective management of those lesser caught species because individual single species information is often insufficient. This rule would modify existing species groupings and create the following additional groupings: other SWG (black grouper, scamp, yellowmouth grouper, and yellowfin grouper); DWG (warsaw grouper, snowy grouper, speckled hind, and yellowedge grouper); tilefishes (golden tilefish, blueline tilefish, and goldface tilefish); jacks (almaco jack, banded rudderfish, and lesser amberjack); and mid-water snapper (silk snapper, wenchman, blackfin snapper, and queen snapper).

Modification of Generic Framework Procedures

To facilitate timely adjustments to harvest parameters and other management measures, the Council has added the ability to adjust ACLs and AMs, and to establish and adjust annual target catch (ACT) levels, to the current framework procedures. These adjustments or additions may be accomplished through a regulatory amendment which is less time-intensive than an FMP amendment. By including ACLs, AMs, and ACTs in the framework procedures, the Councils and NMFS would have the flexibility to more promptly alter those harvest parameters as new scientific information becomes available. The proposed addition of other management options into the framework procedures would also add flexibility and the ability to more timely respond to certain future Council decisions through the framework procedures.

Specification of ACLs

This rule would establish 13 initial ACLs for 26 species or species groups, 8 ACLs for individual species, and 5 ACLs for stock complexes. Individual ACLs would be established for vermilion snapper, lane snapper, gray snapper, hogfish, cubera snapper, mutton snapper, yellowtail snapper, and royal red shrimp. Species complex ACLs would be established for deep-water grouper, other shallow-water grouper, tilefishes, jacks, and mid-water snappers. Additionally, the ACL for the other SWG complex would be revised.

The rule would also establish allowable biological catch (ABC) limits in the Gulf Council's area of jurisdiction for several species managed separately by both the Gulf and South Atlantic Councils, but for which only single stock assessments, and single ABCs covering both Council's areas of jurisdiction, were provided. Based on historical landings and recommendations from their respective SSC's, the two councils have agreed to apportion those overarching ABCs between them. This proposed rule would establish commercial and recreational harvest allocations for black grouper for the Gulf based upon historical landings.

The ACLs to be implemented have been developed based upon the Magnuson-Stevens Act National Standards 1 guidelines that state that the Council must establish an ABC control rule based on scientific advice from the Council's Scientific and Statistical Committee (SSC). Additionally, the ABC should be based, when possible, on the probability that an actual catch equal to the stock's ABC would not result in overfishing. The Council selected the ABC control rule based upon SSC recommendations to use varying levels of scientific uncertainty in setting the ACL.

Standard methods for determining the appropriate ABC allow the Council's SSC to determine an objective and efficient assignment of ABC at or less than the overfishing limit (OFL). The SSC's selection of an ABC takes into account scientific uncertainty regarding the harvest levels that would lead to overfishing. The quality and quantity of landings information varies according to the stock in question, thus separate control rules are needed for data-adequate and data-poor stocks. In some cases, the nature of the fishery or other management considerations may require a separate control rule for a given stock. The default buffer level for each stock is to set the ABC at 75 percent of the OFL unless a different risk level is determined by the Council. The Generic ACL Amendment describes the process by which the ABC would be established for the applicable species.

Under the Magnuson-Stevens Act, ACTs are optional management targets intended to help constrain harvest to levels so that the ACL is not exceeded. Establishing control rules for setting these catch levels would provide guidance to the Council on setting an objective and efficient assignment of ACLs that takes into account the potential for management uncertainty. As with the ABC control rule, different levels of landings information about catch levels and management of stocks may require separate control rules for data-adequate and data-poor stocks. The ACT control rule was also developed by the SSC and provided to the Council. It uses assessment information and characterization of uncertainty to develop a percentage for calculating the ACT from the ACL. There are nine ACTs that would be established through this rule. National Standard 1 guidelines recommend that an ACT be used for stocks when in-season AMs are not used.

Accountability Measures

Accountability measures (AMs) may be used for both in-season and post-season management of a stock to control or mitigate harvest levels with respect to the ACL.

With the exception of royal red shrimp, the stocks and stock complexes requiring AMs are in the reef fish fishery management unit.

The reef fish species requiring AMs within the Generic ACL Amendment are contained in two categories. The first category is for reef fish stocks and stock complexes where the commercial sector is managed under the individual fishing quota (IFQ) program for Gulf groupers and tilefishes, but the recreational sector does not currently have an AM in place. For these species, a portion of the ACL has been apportioned to the commercial sector for IFQ allocation within the IFQ program. For species within the commercial sector of a Gulf IFQ program, this rule would make the IFQ program itself the AM for the commercial sector because commercial landings are closely monitored and IFQ participants are limited to their specific IFQ allocation each fishing year. Thus, if the stock ACL were exceeded, the reason for the overage would be attributable to an excessive harvest by the recreational sector. Therefore, this rule would implement AMs for the recreational sector in the event of a stock ACL overage for the IFQ related species. The three stock complexes whose commercial sectors are managed under an IFQ program but whose recreational sectors do not currently have AMs in place are tilefishes, other SWG, and DWG.

The second category of species or species groups that would have AMs implemented through this rule are those species or species groups that do not currently have AMs in place for either the commercial or recreational sector. This rule would implement new ACLs and AMs in both sectors for the following: Vermilion snapper, lane snapper, mid-water snappers (silk snapper, wenchman, blackfin snapper, and queen snapper), mutton snapper, yellowtail snapper, gray snapper, cubera snapper, hogfish, jacks (lesser amberjack, almaco jack, and banded rudderfish), and royal red shrimp.

For this second category of stocks, with the exception of royal red shrimp and vermilion snapper, if a stock or stock complex exceeds its ACL in a given fishing year, then during the following fishing year, if the sum of commercial and recreational landings reaches or is projected to reach the stock ACL, the commercial and recreational sectors would be closed for the remainder of that fishing year. There is no federally managed recreational sector for royal red shrimp, so the ACL only applies to the commercial sector. The AM for royal red shrimp would apply if commercial landings exceed the ACL in a given fishing year. In that case then during the following fishing year, if the commercial landings reach, or are projected to reach, the ACL, the commercial sector would be closed for the remainder of that fishing year.

In the case of vermilion snapper, in any fishing year, if the combined commercial and recreational landings reach or exceed the stock ACL during the fishing year, then both the commercial and recreational sectors would be closed for the remainder of that fishing year.

For stocks for which an ACL would be set through this rulemaking, none are currently overfished, in a rebuilding plan, or undergoing overfishing. Therefore, there is a reduced likelihood an ACL would be exceeded.

Species in the Amendment Without a Codified ACL or AM

The Generic ACL Amendment proposes to retain Federal management for, and keep within their respective fishery management units, several species that will not have specifically codified ACLs and AMs. These species are red drum, goliath grouper, and corals (excluding octocorals). Harvesting these species is currently prohibited in Gulf Federal waters, and they therefore have a functional ACL of zero. Additionally, the harvest prohibition serves as a functional AM to manage the ACL.

Classification

Pursuant to section 304(b)(1)(A) of the Magnuson-Stevens Act, the NMFS Assistant Administrator has determined that this proposed rule is consistent with the Generic ACL Amendment, other provisions of the Magnuson-Stevens Act, and other applicable law, subject to further consideration after public comment.

This proposed rule has been determined to be not significant for purposes of Executive Order 12866.

NMFS prepared an IRFA for this rule, as required by Regulatory Flexibility Act, 5 U.S.C. 603. The IRFA describes the economic impact that this rule, if adopted, would have on small entities. A description of the rule, why it is being considered, and the objectives of, and legal basis for the rule are contained at the beginning of this section in the preamble and in the SUMMARY section of the preamble. A copy of the full analysis is available from the Council (see ADDRESSES). A summary of the IRFA follows.

The rule would remove octocorals from the Coral and Coral Reefs FMP; remove Nassau grouper from the Reef Fish Fishery FMP; and remove species that have average annual landings of 15,000 lb (6,804 kg) or less or those that are primarily harvested in state waters, including anchor tilefish, blackline tilefish, red hind, rock hind, misty grouper, schoolmaster, dog snapper, and mahogany snapper, sand perch and dwarf sand perch from the Reef Fish Fishery FMP. The rule would also create the additional species groups other shallow-water groupers (black grouper, scamp, yellowmouth grouper, and yellowfin grouper), deep-water groupers (warsaw grouper, snowy grouper, speckled hind, and yellowedge grouper), tilefishes (golden tilefish, blueline tilefish, and goldface tilefish), jacks (almaco jack, banded rudderfish, and lesser amberjack), and mid-water snapper (silk snapper, wenchman, blackfin snapper, and queen snapper), without using any indicator species within each group.

The rule would adopt an ABC control rule providing separate guidance in setting ABC for Tier 1 species (assessed stocks with estimates of MSY and probability distribution around the estimate), Tier 2 species (assessed stocks without estimates of MSY or its proxy), Tier 3a (unassessed stocks but deemed stable over time), and Tier 3b (unassessed stocks with current fishing levels deemed by the SSC as not sustainable). The rule would additionally establish an initial estimate of ACL/ACT, based on a spreadsheet method and followed by a review by the Council's Socioeconomic Panel, for seven individual reef fish species (vermilion snapper, lane snapper, gray snapper, hogfish, cubera snapper, mutton snapper, and yellowtail snapper) and five reef fish species complexes (other shallow-water grouper, deep-water grouper, tilefishes, jacks, and mid-water snappers). The rule would also adopt a generic framework procedure by modifying existing framework procedures under the Reef Fish, Gulf Shrimp, and Red Drum Fishery FMPs and establishing a framework procedure for the Coral and Coral Reefs FMP; and would specify an ACL of 334,000 lb (151,500 kg) of tails for royal red shrimp based on the overfishing limit of 392,000 lb (177,808 kg) of tails as recommended by the SSC.

Moreover, the rule would establish the ABCs in the Gulf Council's area of jurisdiction for several species managed separately by both the Gulf and South Atlantic Councils, but for which only single stock assessments, and single ABCs covering both Council's areas of jurisdictions, were provided. The amendment would set the following apportionment of those overarching ABC's: 47 percent of the black grouper ABC for the South Atlantic Council and 53 percent for the Gulf Council; 75 percent of the yellowtail snapper for the South Atlantic Council and 25 percent for the Gulf Council; 82 percent of the mutton snapper ABC for the South Atlantic Council and 18 percent for the Gulf Council. The rule would also further allocate the Gulf Council's black grouper ACL into 27 percent for the recreational sector and 73 percent for the commercial sector; set annual ACLs and optional ACTs based on the ACL/ACT control rule, with ACL being equal to ABC, unless otherwise specified by the Council. The rule would implement in-season AMs for vermilion snapper by closing the commercial and recreational sectors when the stock ACL is reached or projected to be reached within a fishing year; implement in-season AMs for other reef fish species without an existing AM and royal red shrimp if the stock ACL is exceeded in the previous year; set the trigger for post-season AMs when landings exceed the ACL without applying any overage adjustment to the following year's ACL.

The purpose of this rule is to implement the National Standard 1 guidelines to establish the methods for implementing ACLs, AMs and associated parameters for stocks managed by the Gulf Council, along with initial specifications of an ACL that may be changed under the framework procedures for specifying an ACL. Additionally, this rule is intended to improve management capability to prevent or end overfishing and to maintain stocks at healthy levels, and to do so in a consistent and structured manner across all FMPs.

The Magnuson-Stevens Act provides the statutory basis for this rule.

The rule would not establish any new reporting or record-keeping requirements. However, the AMs may constitute a new compliance requirement and are analyzed later in the IRFA. No duplicative, overlapping, or conflicting Federal rules have been identified for this rule. Management of certain species affected by this rule was developed with explicit consideration of applicable rules in the state of Florida and the South Atlantic Council.

The rule is expected to directly affect commercial harvesting and for-hire fishing vessels that harvest reef fish, royal red shrimp, red drum, or octocorals in the Gulf. It should be noted that harvest and possession of red drum in the Gulf EEZ is currently prohibited. The Small Business Administration has established size criteria for all major industry sectors in the U.S. including fish harvesters and for-hire operations. A business involved in fish harvesting is classified as a small business if it is independently owned and operated, is not dominant in its field of operation (including its affiliates), and has combined annual receipts not in excess of $4.0 million (NAICS code 114111, finfish fishing) for all its affiliated operations worldwide. For for-hire vessels, all the above qualifiers apply except that the annual receipts threshold is $7.0 million (NAICS code 713990, recreational industries).

In 2009, there were 999 vessels with Gulf commercial reef fish permits and 430 vessels with Gulf royal red shrimp permits. There is no entity possessing a Federal permit for harvesting red drum or octocorals in the Gulf EEZ. Based on home states, as reported in Federal permit applications, vessels with commercial reef fish permits were distributed as follows: 37 vessels in Alabama, 814 vessels in Florida, 48 vessels in Louisiana, 15 vessels in Mississippi, 77 vessels in Texas, and 8 vessels in other states. The corresponding distribution of vessels with royal red shrimp permits is as follows: 57 vessels in Alabama, 65 vessels in Florida, 88 vessels in Louisiana, 25 vessels in Mississippi, 152 vessels in Texas, and 43 vessels in other states. In 2008 and 2009, the maximum annual commercial fishing revenue by an individual vessel with a commercial Gulf reef fish permit was approximately $606,000 (2008 dollars). The maximum revenue by an individual vessel in the royal red shrimp or coral fisheries was far less than $606,000.

The for-hire fleet is comprised of charterboats, which charge a fee on a vessel basis, and headboats, which charge a fee on an individual angler (head) basis. In 2009, there were 1,419 for-hire vessels that were permitted to operate in the Gulf reef fish fishery. These vessels were distributed as follows: 141 vessels in Alabama, 876 vessels in Florida, 100 vessels in Louisiana, 52 vessels in Mississippi, 232 vessels in Texas, and 18 vessels in other states. The for-hire permit does not distinguish between headboats and charter boats, but in 2009 the headboat survey program included 79 headboats. The majority of headboats were located in Florida (43), followed by Texas (22), Alabama (10), and Louisiana (4). The average charterboat is estimated to earn approximately $88,000 (2008 dollars) in annual revenues, while the average headboat is estimated to earn approximately $461,000 (2008 dollars).

Based on the foregoing revenue estimates, all commercial and for-hire vessels expected to be directly affected by this rule are determined for the purpose of this analysis to be small business entities. Some fleet activity (i.e., multiple vessels owned by a single entity) may exist in the for-hire sector but its extent is unknown, and all vessels are treated as independent entities in this analysis.

Because all entities expected to be directly affected by this rule are small business entities, no disproportionate effects on small entities relative to large entities are expected because of this rule.

Removing octocorals from the Coral and Coral Reefs FMP is mainly administrative in nature and would have no direct effects on the profitability of small business entities. Removing Nassau grouper from the Reef Fish Fishery FMP, with eventual management of the species being assumed by the South Atlantic Council, has no direct effects on the profits of small entities, given the current prohibition on the harvest of this species. Removing species from the Reef Fish Fishery FMP which have average annual landings of 15,000 lb (6,804 kg) or less (except those misidentified as another species or those exhibiting a trend landings that may indicate a change is status), or those mainly harvested in state waters, such as anchor tilefish, blackline tilefish, red hind, rock hind, misty grouper, schoolmaster, dog snapper, mahogany snapper, sand perch, and dwarf sand fish, would not directly change the current harvest or use of a resource, and therefore would not affect the profitability of small entities. Similarly, rearranging species into species groupings would not directly change the current harvest or use of a resource, and therefore would not affect the profitability of small entities.

The establishment of an ABC control rule is not anticipated to directly affect the harvest and other typical uses of the resource since this action is administrative in nature. As such, this management action is not expected to result in any direct effects on the profits of small entities.

The establishment of an ACL/ACT control rule is an administrative action and would not affect the harvest and other customary uses of the resource. Therefore, this action has no direct consequence on the profitability of small entities.

Modifications to the framework procedure are also administrative in nature. Since these modifications would not affect the harvest and other customary uses of the resource, they would have no direct consequence on the profitability of small entities.

Any management actions enacted through the modified framework procedure would be evaluated as to their effects on the profits of small entities at the time of their implementation. Initial ACL specification for royal red shrimp would set the ACL for the species at 334,000 lb tails (151,500 kg) which are significantly above the historical landings (138,116 lb (62,648 kg) in 2008). This action, therefore, would not affect harvests and profits of small entities in the foreseeable future.

Apportioning black grouper between the Gulf and South Atlantic Council's jurisdictional areas would result in an increase of profits (producer surplus) to the commercial sector ranging from approximately $90,000 to $113,000 annually for all vessels combined. The effects on for-hire profits are expected to be positive but cannot be quantified with available information. The apportionment of yellowtail snapper between the Gulf and South Atlantic Council's jurisdictional areas is very close to the recent landings ratio of the species between the two jurisdictional areas. Thus, this management action is expected to have minimal effects on the profits of small entities in both areas.

The apportionment of mutton snapper between the Gulf and South Atlantic Council's jurisdictional areas would favor the Gulf fishing fleet and thus would be expected to increase the profits of the Gulf fishing fleet. The effects on the profits of the South Atlantic fishing fleet would, in turn, decrease. In the absence of sufficient information to quantify the effects of this action, its net effects on the fishing fleets of both areas cannot be determined.

The apportionment of black grouper in the Gulf between the commercial and recreational sectors would tend to favor the commercial over the recreational sector. In this sense, the commercial sector is expected to experience profit increases ranging from approximately $11,000 to $14,000 annually for all vessels combined. The negative effects on the for-hire fleet cannot be estimated with available information. Potential effects on small entities anticipated from the implementation of ACLs and/or ACTs for reef fish stocks and stock groupings would depend on the extent to which ACLs and ACTs under consideration would affect the harvest or other customary uses of the resource. While this action does not set any reef fish species and stock groupings ACLs or ACTs for the recreational sector, aggregate catch limits and targets and the ACLs and ACTs specified for the commercial sector would allow for an increased harvest levels for both sectors. Therefore, positive effects on the profits of small entities would be expected to result from this action in the near future.

Specifying in-season AMs for vermilion snapper when the ACL is reached or projected to be reached within the fishing year would result in short-term negative effects on the profits of small entities. The expectation, however, over the medium and long-term is for profits of these small entities to increase or at least not be further impaired due to increased protection for the stock. Implementing AMs for royal red shrimp and other reef fish species that do not currently have AMs enacted the following year after their ACLs are exceeded would negatively affect the short-term profits of small entities. Again, the expectation is for this action to improve medium and long-term profitability.

Three alternatives, including the preferred alternative, were considered for the management of octocorals. The first alternative, the no action alternative, would retain the management of species under the Gulf Coral and Coral Reefs FMP. The second alternative would remove the species from the FMP, with eventual management of the species being the responsibility of the South Atlantic Council. Similar to the preferred alternative, these two other alternatives would have no direct effects on the profits of small entities. The second alternative would mainly entail additional administrative cost on the part of the South Atlantic Council.

Three alternatives, including the preferred alternative, were considered for the management of Nassau grouper. The first alternative, the no action alternative, would retain the management of the species under the Gulf Reef Fish FMP. The second alternative would remove the species from the FMP, with eventual management of the species being the responsibility of the South Atlantic Council. Similar to the preferred alternative, these two other alternatives would have no direct effects on the profits of small entities. The second alternative would mainly entail additional administrative cost on the part of the South Atlantic Council.

Four alternatives, including the preferred alternative, were considered for the management of yellowtail snapper. The first alternative would remove the species from the Gulf Reef Fish FMP. The second alternative would remove the species from the FMP, with eventual management of the species being the responsibility of the South Atlantic Council. The third alternative would add the species to a joint plan with the South Atlantic Council. Similar to the preferred no action alternative, these three other alternatives would have no effects on the profits of small entities. The second alternative would mainly entail additional administrative cost on the part of the South Atlantic Council.

Four alternatives, including the preferred alternative, were considered for the management of mutton snapper. The first alternative would remove the species from the Gulf Reef Fish FMP. The second alternative would remove the species from the FMP, with eventual management of the species being the responsibility of the South Atlantic Council. The third alternative would add the species to a joint plan with the South Atlantic Council. Similar to the preferred no action alternative, these three other alternatives would have no direct effects on the profits of small entities. The second alternative would mainly entail additional administrative cost on the part of the South Atlantic Council while the third alternative would entail additional administrative costs on both Councils.

Five alternatives, of which two are the preferred alternatives, were considered for removing stocks from the Reef Fish FMP. The first alternative, the no action alternative, would not remove any species from Gulf Reef Fish FMP. This alternative would have no direct effects on the short-term profitability of small entities, but over time this is more likely to result in profit reduction than the preferred alternative when certain species with historically low landings become subject to restrictive measures. The second alternative would remove species with average landings of 100,000 lb (45,359 kg) or below from the Reef Fish FMP, except for species that are long-lived, may be misidentified as another species, or have trends in landings that may indicate a change in status. This alternative would have no direct short-term effects on profits of small entities, but with a relatively high historical landings threshold certain species may not be well protected for long-term sustainability. This could then eventually lead to lower harvest and lower profits to small entities over time. The third alternative would remove species from the Reef Fish FMP if Federal waters are at the edge of the species distribution. This alternative would not directly affect the profitability of small entities, and could possibly have similar long-term effects as the preferred alternative.

Five alternatives, of which two with one sub-alternative are the preferred alternatives, were considered for species groupings. The first alternative, the no action alternative, would maintain the current species groupings. This alternative would have no direct short-term economic effects on small entities. The second alternative would revise the species groupings by adding groupings when life history and landings data may be too sparse to set individual catch limits. Although this alternative would have no direct consequence on the economic status of small entities, it would provide for a greater number of groupings. The third alternative would use species groupings based on NMFS analysis, which uses fishery-dependent data from multiple sectors over multiple years and life history data when available creating complexes and sub-complexes. This alternative would have no direct effects on the economic status of small entities, but it would provide for more groupings than the preferred alternative. In addition to these alternatives, two other sub-alternatives were considered regarding the selection of an indicator species within each grouping, noting that the preferred sub-option is not to use any indicator species. The first sub-option is to use as an indicator species the most vulnerable stock in the group based on productivity-susceptibility analysis. This sub-option would likely result in more restrictive environment that would condition the implementation of ACLs and other management measures. The second sub-option would use the assessed species as an indicator species. This sub-option has similar effects as the first sub-option but it would be relatively less constrictive.

Three alternatives, including the preferred alternative, were considered for the ABC control rule. The first alternative, the no action alternative, would not specify an ABC control rule. This alternative would have no immediate effects on the economic status of small entities, but it may not comply with the Magnuson-Stevens Act National Standard 1 guidelines, which require Councils to establish an acceptable ABC control rule. The second alternative would adopt an ABC control rule fixing the buffer between the overfishing limit and ABC at a level such that ABC is equal to 75 percent of the overfishing limit or ABC is equal to the yield at 75 percent of FMSY (fishing mortality at maximum sustainable yield). Although this alternative is simpler than the preferred alternative, it lacks the stock specificity contained in the preferred alternative.

Five alternatives, including the preferred alternative, were considered for the ACL/ACT control rule. The first alternative, the no action alternative, would not establish an ACL/ACT control rule. The second alternative would establish an initial estimate of ACL/ACT based upon a flow chart method that reviews data availability, data timeliness, and data quality to develop the ACT buffer percentage, and followed by a review by the Council's Socioeconomic Panel. This alternative would have economic effects similar to the preferred alternative, but it would produce a less conservative buffer when comparing stock complexes or stocks with high dead discard levels. Therefore, this alternative may result in less adverse economic impacts in the short term than the preferred alternative. The third alternative would set the buffer between ACL and ACT at a fixed percentage of 25 percent for all sectors, 0 percent for IFQ (individual fishing quota) fisheries and 25 percent for all other sectors, or 2 percent for IFQ fisheries and 25 percent for all other sectors, and followed by a review by the Council's Socioeconomic Panel. This alternative may result in lower economic benefits than the preferred alternative, because it would establish control rules that may not take account of stock specificity. The fourth alternative would set the buffer between ACL and ACT at a fixed percentage of 0 percent, 10 percent, 15 percent, or 25 percent, followed by a review by the Council's Socioeconomic Panel. This alternative has about the same economic implications as the third alternative, except possibly when dealing with IFQ species, so that it would also tend to provide lower economic benefits than the preferred alternative.

Four alternatives, including the preferred alternative, were considered for the generic framework procedures. The first alternative, the no action alternative, would retain the current framework procedures for implementing management measures. The second alternative would add modifications that would make the framework procedures broader than the preferred alternative while the third alternative would make the framework procedures narrower than the preferred alternative. Similar to the preferred alternative, these three other alternatives would have no direct economic effects on small entities.

Three alternatives, including the preferred alternative, were considered for specifying ACL for royal red shrimp. The first alternative, the no action alternative, would not set an ACL for the species. This alternative is the least likely to affect the profits of small entities but it would not meet the legal requirements for establishing an ACL by 2011. The second alternative would set an ACL for the species based on average landings from 1962-2008 (141,379 lb (64,128 kg) of tails), from the last 5 years (191,860 lb (87,026 kg) of tails), or from the last 10 years (233,182 lb (105,770 kg) of tails). This alternative would likely result in a harvest reduction and profit reduction as well, except when the ACL is set at the highest of the three sub-options. Other sub-options would set the ACL equal to 75 percent of ABC (250,500 lb (113,625 kg)) or set the ACL corresponding to the ACL/ACT control rule. These sub-options would be unlikely to result in short-term profit reductions although they are more restrictive than the preferred alternative/sub-alternative.

Three alternatives, including the preferred alternative, were considered for establishing the Gulf portion of the jurisdictional apportionment of the black grouper ABC, as agreed upon by both councils. The first alternative, the no action alternative, would not apportion the species ABC between the Gulf and South Atlantic Councils. This alternative would tend to maintain the distribution of landings and potentially the economic benefits between the Gulf and South Atlantic fishing fleets. The second alternative would evenly apportion the species ABC between the Gulf and South Atlantic Councils. The resulting effects of this alternative on small entities would be lower profits than the preferred alternative.

Four alternatives, including the preferred alternative, were considered for establishing the Gulf portion of the jurisdictional apportionment of the yellowtail snapper ABC, as agreed upon by both councils. The first alternative, the no action alternative, would not apportion the species ABC between the Gulf and South Atlantic Councils. This alternative would tend to maintain the distribution of landings and potentially the economic benefits between the Gulf and South Atlantic fishing fleets. The second alternative would apportion 73 percent of the species ABC to the South Atlantic Council and 27 percent to the Gulf Council. This alternative would potentially yield higher profits to the Gulf fishing fleet than the preferred alternative, but the difference in the profit outcome of the two alternatives would be relatively small. The third alternative would apportion 77 percent to the South Atlantic Council and 23 percent to the Gulf Council. This alternative would result in lower profits to the Gulf fishing fleet than the preferred alternative, although the difference in profit outcome between the two alternatives would be relatively small.

Three alternatives, including the preferred alternative, were considered for establishing the Gulf portion of the jurisdictional apportionment of the mutton snapper ABC, as agreed upon by both councils. The first alternative, the no action alternative, would not apportion the species ABC between the Gulf and South Atlantic Councils. This alternative would tend to maintain the distribution of landings and potentially economic benefits between the Gulf and South Atlantic fishing fleets. The second alternative would apportion 79 percent of the species ABC to the South Atlantic Council and 21 percent to the Gulf Council. This alternative would result in lower profits to Gulf fishing fleet than the preferred alternative, although the difference in profit outcome between the two alternatives would be relatively small.

Four alternatives, including the preferred alternative, were considered for the sector allocation of black grouper. The first alternative, the no action alternative, would not establish sector allocation of the species. This alternative would tend to maintain the distribution of landings and potentially economic benefits between the commercial and recreational sectors. The second alternative would allocate 18 percent of the species ACL to the recreational sector and 82 percent to the commercial sector. This alternative would result in higher profit increases to the commercial sector than the preferred alternative. However, it would also result in higher profit reductions to the for-hire fleet. The net effects of this alternative cannot be estimated with available information. The third alternative would allocate 24 percent of the species ACL to the recreational sector and 76 percent to the commercial sector. This alternative would provide slightly higher profitability to the commercial sector and lower profitability to the for-hire sector than the preferred alternative. The net effects of this alternative cannot be estimated with available information.

Three alternatives, including the preferred alternative, and two sub-options, one of which is the preferred sub-option, were considered for specifying ACLs/ACTs for reef fish stocks and stock groupings. The first alternative, the no action alternative, would not set an annual ACL/ACT for stocks or stock groups, but this would not meet the legal requirements for establishing an ACL by 2011. The second alternative would set a 10 percent buffer between the ABC and ACL or between the ACL and ACT if ACL is equal to ABC. This alternative would likely result in lower profits to small entities than the preferred alternative. The second sub-option would set the ABC equal to the value specified in the ACL/ACT control rule, with the ACT not being used unless specified otherwise by the Council. This alternative would likely result in profits to small entities that would be equal to or less than those of the preferred alternative.

Four alternatives, of which two are the preferred alternatives, and five sub-options, of which two are the preferred sub-options, were considered for AMs. The first alternative, the no action alternative, would not create new AMs for reef fish and royal red shrimp. This alternative would likely result in higher profits to small entities than the preferred alternative, but it would not be consistent with the requirement to establish AMs for stocks managed by the Council. The second alternative would implement only post-season AMs for stocks and sectors that do not currently have AMs should the ACL for a year be exceeded. This alternative would likely result in larger profit reductions in the short-term than the preferred alternative due to possibly more restrictive corrective actions being implemented to address ACL overages. The first sub-option would set the trigger for post-season AMs if the average landings for the past 3 years exceed the ACL. This sub-option would likely result in lower short-term profit reductions than the preferred alternative, although over time it would result in larger profit reductions due to more restrictive actions to remedy the overages. The second sub-option would set the trigger for post-season AMs if average landings for the past 5 years, after excluding the highest and lowest values, exceed the ACL. This alternative would have nearly similar effects as the second alternative. The third sub-option would provide for an overage adjustment if the ACL for the stock or sector is exceeded and the stock is under a rebuilding plan. The amount of adjustment would equal the full amount of the overage, unless the best scientific information shows a lesser amount is needed to mitigate the effects of exceeding the ACL. This sub-option would result in larger profit reductions in the short-term than the preferred alternative due to harvest reductions that would be implemented to mitigate the overages.

List of Subjects in 50 CFR Part 622

Fisheries, Fishing, Puerto Rico, Reporting and recordkeeping requirements, Virgin Islands.

Dated: October 20, 2011.
Samuel D. Rauch, III,
Deputy Assistant Administrator for Regulatory Programs, National Marine Fisheries Service.

For the reasons set out in the preamble, 50 CFR part 622 is proposed to be amended as follows:

PART 622—FISHERIES OF THE CARIBBEAN, GULF, AND SOUTH ATLANTIC

1. The authority citation for part 622 continues to read as follows:

Authority: 16 U.S.C. 1801 et seq.

§ 622.1 [Amended]

2. In § 622.1, paragraph (b), in Table 1, remove the row titled, “FMP for Coral and Coral Reefs of the Gulf of Mexico”.

3. In § 622.2, the definitions for “deep-water grouper (DWG)” and “shallow-water grouper (SWG)” are revised to read as follows:

§ 622.2 Definitions and acronyms.

* * * * *

Deep-water grouper (DWG) means, in the Gulf, yellowedge grouper, warsaw grouper, snowy grouper, and speckled hind. In addition, for the purposes of the IFQ program for Gulf groupers and tilefishes in § 622.20, scamp are also included as DWG as specified in § 622.20(b)(2)(vi).

* * * * *

Shallow-water grouper (SWG) means, in the Gulf, gag, red grouper, black grouper, scamp, yellowfin grouper, and yellowmouth grouper. In addition, for the purposes of the IFQ program for Gulf groupers and tilefishes in § 622.20, speckled hind and warsaw grouper are also included as SWG as specified in § 622.20(b)(2)(v).

* * * * *

4. In § 622.3, paragraph (c) is revised to read as follows:

§ 622.3 Relation to other laws and regulations.

* * * * *

(c) For allowable octocoral, if a state has a catch, landing, or gear regulation that is more restrictive than a catch, landing, or gear regulation in this part, a person landing in such state allowable octocoral taken from the South Atlantic EEZ must comply with the more restrictive state regulation.

* * * * *

5. In § 622.4, the first sentence of paragraph (a)(2)(ix) and paragraph (a)(3)(ii) are revised to read as follows:

§ 622.4 Permits and fees.

(a) * * *

(2) * * *

(ix) Gulf IFQ vessel accounts. For a person aboard a vessel, for which a commercial vessel permit for Gulf reef fish has been issued, to fish for, possess, or land Gulf red snapper or Gulf groupers (including DWG and SWG, as specified in § 622.20(a)) or tilefishes (including goldface tilefish, blueline tilefish, and tilefish), regardless of where harvested or possessed, a Gulf IFQ vessel account for the applicable species or species groups must have been established. * * *

* * * * *

(3) * * *

(ii) Allowable octocoral. For an individual to take or possess allowable octocoral in the South Atlantic EEZ, other than allowable octocoral that is landed in Florida, a Federal allowable octocoral permit must have been issued to the individual. Such permit must be available for inspection when the permitted activity is being conducted and when allowable octocoral is possessed, through landing ashore.

* * * * *

6. In § 622.20, the first three sentences in paragraph (a) are revised to read as follows:

§ 622.20 Individual fishing quota (IFQ) program for Gulf groupers and tilefishes.

(a) General. This section establishes an IFQ program for the commercial components of the Gulf reef fish fishery for groupers (including DWG, red grouper, gag, and other SWG) and tilefishes (including goldface tilefish, blueline tilefish, and tilefish). For the purposes of this IFQ program, DWG includes yellowedge grouper, warsaw grouper, snowy grouper, and speckled hind, and scamp, but only as specified in paragraph (b)(2)(vi) of this section. For the purposes of this IFQ program, other SWG includes black grouper, scamp, yellowfin grouper, and yellowmouth grouper, and warsaw grouper and speckled hind, but only as specified in paragraph (b)(2)(v) of this section. * * *

* * * * *

7. In § 622.31, paragraphs (f) and (n) are revised to read as follows:

§ 622.31 Prohibited gear and methods.

* * * * *

(f) Power-assisted tools. A power-assisted tool may not be used in the Caribbean EEZ to take a Caribbean coral reef resource, in the Gulf EEZ to take prohibited coral or live rock, or in the South Atlantic EEZ to take allowable octocoral, prohibited coral, or live rock.

* * * * *

(n) Gulf reef fish may not be used as bait in any fishery, except that, when purchased from a fish processor, the filleted carcasses and offal of Gulf reef fish may be used as bait in trap fisheries for blue crab, stone crab, deep-water crab, and spiny lobster.

8. In § 622.32, the first sentence of paragraph (b)(2)(iii) is revised to read as follows:

§ 622.32 Prohibited and limited-harvest species.

* * * * *

(b) * * *

(2) * * *

(iii) Red drum may not be harvested or possessed in or from the Gulf EEZ. * * *

* * * * *

9. In § 622.34, the third sentence of paragraph (g)(1) is revised to read as follows:

§ 622.34 Gulf EEZ seasonal and/or area closures.

* * * * *

(g) * * *

(1) * * * The provisions of this paragraph do not apply to hogfish.

* * * * *

10. In § 622.37, paragraph (d)(1)(iii) is revised to read as follows:

§ 622.37 Size limits.

* * * * *

(d) * * *

(1) * * *

(iii) Cubera, gray, and yellowtail snappers—12 inches (30.5 cm), TL.

* * * * *

11. In § 622.39, the first sentence in paragraph (b)(1)(ii) and paragraph (b)(1)(v) are revised to read as follows:

§ 622.39 Bag and possession limits.

* * * * *

(b) * * *

(1) * * *

(ii) Groupers, combined, excluding goliath grouper—4 per person per day, but not to exceed 1 speckled hind or 1 warsaw grouper per vessel per day, or 2 gag per person per day. * * *

* * * * *

(v) Gulf reef fish, combined, excluding those specified in paragraphs (b)(1)(i) through (b)(1)(iv) and paragraphs (b)(1)(vi) through (b)(1)(vii) of this section—20.

* * * * *

12. In § 622.42, paragraph (a)(1)(ii), the introductory paragraph for paragraph (a)(1)(iii), paragraph (a)(1)(iii)(A), paragraph (a)(1)(iv), and paragraph (b) are revised to read as follows:

§ 622.42 Quotas.

(a) * * *

(1) * * *

(ii) Deep-water groupers (DWG) have a combined quota, as specified in paragraphs (a)(1)(ii)(A) through (E) of this section. These quotas are specified in gutted weight, that is eviscerated, but otherwise whole.

(A) For fishing year 2012—1.127 million lb (0.511 million kg).

(B) For fishing year 2013—1.118 million lb (0.507 million kg).

(C) For fishing year 2014—1.110 million lb (0.503 million kg).

(D) For fishing year 2015—1.101 million lb (0.499 million kg).

(E) For fishing year 2016 and subsequent fishing years—1.024 million lb (0.464 million kg).

(iii) Shallow-water groupers (SWG) have separate quotas for gag and red grouper and a combined quota for other shallow-water grouper (SWG) species (including black grouper, scamp, yellowfin grouper, and yellowmouth grouper), as specified in paragraphs (a)(1)(iii)(A) through (C) of this section. These quotas are specified in gutted weight, that is eviscerated but otherwise whole.

(A) Other SWG combined. (1) For fishing year 2012—509,000 lb (230,879 kg).

(2) For fishing year 2013—518,000 lb (234,961 kg).

(3) For fishing year 2014—523,000 lb (237,229 kg).

(4) For fishing year 2015 and subsequent fishing years—525,000 lb (238,136 kg).

* * * * *

(iv) Tilefishes (including goldface tilefish, blueline tilefish, and tilefish)—582,000 lb (263,991 kg), gutted weight, that is, eviscerated but otherwise whole.

* * * * *

(b) South Atlantic allowable octocoral. The quota for all persons who harvest allowable octocoral in the EEZ of the South Atlantic is 50,000 colonies. A colony is a continuous group of coral polyps forming a single unit.

* * * * *

13. In § 622.43, paragraph (a)(2) is revised to read as follows:

§ 622.43 Closures.

(a) * * *

(2) South Atlantic allowable octocoral. Allowable octocoral may not be harvested or possessed in the South Atlantic EEZ and the sale or purchase of allowable octocoral in or from the South Atlantic EEZ is prohibited.

* * * * *

14. In § 622.48, paragraphs (d), (e), (i), and (j) are revised and paragraph (p) is added to read as follows:

§ 622.48 Adjustment of management measures.

* * * * *

(d) Gulf reef fish. For a species or species group: Reporting and monitoring requirements, permitting requirements, bag and possession limits (including a bag limit of zero), size limits, vessel trip limits, closed seasons or areas and reopenings, annual catch limits (ACLs), annual catch targets (ACTs), quotas (including a quota of zero), accountability measures (AMs), MSY (or proxy), OY, TAC, management parameters such as overfished and overfishing definitions, gear restrictions (ranging from regulation to complete prohibition), gear markings and identification, vessel markings and identification, allowable biological catch (ABC) and ABC control rules, rebuilding plans, sale and purchase restrictions, transfer at sea provisions, and restrictions relative to conditions of harvested fish (maintaining fish in whole condition, use as bait).

(e) Gulf royal red shrimp. Reporting and monitoring requirements, permitting requirements, size limits, vessel trip limits, closed seasons or areas and reopenings, annual catch limits (ACLs), annual catch targets (ACTs), quotas (including a quota of zero), accountability measures (AMs), MSY (or proxy), OY, TAC, management parameters such as overfished and overfishing definitions, gear restrictions (ranging from regulation to complete prohibition), gear markings and identification, vessel markings and identification, allowable biological catch (ABC) and ABC control rules, rebuilding plans, sale and purchase restrictions, transfer at sea provisions, and restrictions relative to conditions of harvested shrimp (maintaining shrimp in whole condition, use as bait).

* * * * *

(i) Gulf shrimp. For a species or species group: Reporting and monitoring requirements, permitting requirements, size limits, vessel trip limits, closed seasons or areas and reopenings, annual catch limits (ACLs), annual catch targets (ACTs), quotas (including a quota of zero), accountability measures (AMs), MSY (or proxy), OY, TAC, management parameters such as overfished and overfishing definitions, gear restrictions (ranging from regulation to complete prohibition), gear markings and identification, vessel markings and identification, allowable biological catch (ABC) and ABC control rules, rebuilding plans, sale and purchase restrictions, transfer at sea provisions, restrictions relative to conditions of harvested shrimp (maintaining shrimp in whole condition, use as bait), target effort and fishing mortality reduction levels, bycatch reduction criteria, BRD certification and decertification criteria, BRD testing protocol, certified BRDs, and BRD specification.

(j) Gulf red drum. Reporting and monitoring requirements, permitting requirements, bag and possession limits (including a bag limit of zero), size limits, vessel trip limits, closed seasons or areas and reopenings, annual catch limits (ACLs), annual catch targets (ACTs), quotas (including a quota of zero), accountability measures (AMs), MSY (or proxy), OY, TAC, management parameters such as overfished and overfishing definitions, gear restrictions (ranging from regulation to complete prohibition), gear markings and identification, vessel markings and identification, allowable biological catch (ABC) and ABC control rules, rebuilding plans, sale and purchase restrictions, transfer at sea provisions, and restrictions relative to conditions of harvested fish (maintaining fish in whole condition, use as bait).

* * * * *

(p) Gulf coral resources. For a species or species group: Reporting and monitoring requirements, permitting requirements, bag and possession limits (including a bag limit of zero), size limits, vessel trip limits, closed seasons or areas and reopenings, annual catch limits (ACLs), annual catch targets (ACTs), quotas (including a quota of zero), accountability measures (AMs), MSY (or proxy), OY, TAC, management parameters such as overfished and overfishing definitions, gear restrictions (ranging from regulation to complete prohibition), gear markings and identification, vessel markings and identification, allowable biological catch (ABC) and ABC control rules, rebuilding plans, sale and purchase restrictions, transfer at sea provisions, and restrictions relative to conditions of harvested corals.

15. In § 622.49, the heading for § 622.49 and paragraph (a)(3) are revised and paragraphs (a)(6) through (a)(16) and paragraph (d) are added to read as follows:

§ 622.49 Annual catch limits (ACLs) and accountability measures (AMs).

(a) * * *

(3) Other shallow-water grouper (SWG) combined (including black grouper, scamp, yellowfin grouper, and yellowmouth grouper). (i) Commercial sector. The IFQ program for groupers and tilefishes in the Gulf of Mexico serves as the accountability measure for other commercial SWG. The commercial ACL for other SWG is equal to the applicable quota specified in § 622.42(a)(1)(iii)(A).

(ii) Recreational sector. If the sum of the commercial and recreational landings, as estimated by the SRD, exceeds the stock complex ACL specified in paragraph (a)(3)(iii), then during the following fishing year, if the sum of the commercial and recreational landings reaches or is projected to reach the applicable ACL specified in (a)(3)(iii), the AA will file a notification with the Office of the Federal Register to close the recreational sector for the remainder of that fishing year.

(iii) The stock complex ACLs for other SWG, in gutted weight, are 688,000 lb (312,072 kg) for 2012, 700,000 lb (317,515 kg) for 2013, 707,000 lb (320,690 kg) for 2014, and 710,000 lb (322,051 kg) for 2015 and subsequent years.

* * * * *

(6) Deep-water grouper (DWG) combined (including yellowedge grouper, warsaw grouper, snowy grouper, and speckled hind)—

(i) Commercial sector. The IFQ program for groupers and tilefishes in the Gulf of Mexico serves as the accountability measure for commercial DWG. The commercial ACL for DWG is equal to the applicable quota specified in § 622.42(a)(1)(ii).

(ii) Recreational sector. If the sum of the commercial and recreational landings, as estimated by the SRD, exceeds the stock complex ACL specified in paragraph (a)(6)(iii) of this section, then during the following fishing year, if the sum of commercial and recreational landings reaches or is projected to reach the applicable ACL specified in (a)(6)(iii) of this section, the AA will file a notification with the Office of the Federal Register to close the recreational sector for the remainder of that fishing year.

(iii) The stock complex ACLs for DWG, in gutted weight, are 1.216 million lb (0.552 million kg) for 2012, 1.207 million lb (0.547 million kg) for 2013, 1.198 million lb (0.543 million kg) for 2014, 1.189 million lb (0.539 million kg) for 2015, and 1.105 million lb (0.501 million kg) for 2016 and subsequent years.

(7) Tilefishes combined (including goldface tilefish, blueline tilefish, and tilefish)—(i) Commercial sector. The IFQ program for groupers and tilefishes in the Gulf of Mexico serves as the accountability measure for commercial tilefishes. The commercial ACL for tilefishes is equal to the applicable quota specified in § 622.42(a)(1)(iv).

(ii) Recreational sector. If the sum of the commercial and recreational landings, as estimated by the SRD, exceeds the stock complex ACL specified in paragraph (a)(7)(iii) of this section, then during the following fishing year, if the sum of commercial and recreational landings reaches or is projected to reach the applicable ACL specified in (a)(7)(iii) of this section, the AA will file a notification with the Office of the Federal Register to close the recreational sector for the remainder of that fishing year.

(iii) The stock complex ACL for tilefishes is 608,000 lb (275,784 kg), gutted weight.

(8) Lesser amberjack, almaco jack, and banded rudderfish, combined. If the sum of the commercial and recreational landings, as estimated by the SRD, exceeds the stock complex ACL, then during the following fishing year, if the sum of commercial and recreational landings reaches or is projected to reach the stock complex ACL, the AA will file a notification with the Office of the Federal Register to close the commercial and recreational sectors for the remainder of that fishing year. The stock complex ACL for lesser amberjack, almaco jack, and banded rudderfish, is 312,000 lb (141,521 kg), round weight.

(9) Silk snapper, queen snapper, blackfin snapper, and wenchman, combined. If the sum of the commercial and recreational landings, as estimated by the SRD, exceeds the stock complex ACL, then during the following fishing year, if the sum of commercial and recreational landings reaches or is projected to reach the stock complex ACL, the AA will file a notification with the Office of the Federal Register to close the commercial and recreational sectors for the remainder of that fishing year. The stock complex ACL for silk snapper, queen snapper, blackfin snapper, and wenchman, is 166,000 lb (75,296 kg), round weight.

(10) Vermilion snapper. If the sum of the commercial and recreational landings, as estimated by the SRD, reaches or is projected to reach the stock ACL, the AA will file a notification with the Office of the Federal Register to close the commercial and recreational sectors for the remainder of the fishing year. The stock ACL for vermilion snapper is 3.42 million lb (1.55 million kg), round weight.

(11) Lane snapper. If the sum of the commercial and recreational landings, as estimated by the SRD, exceeds the stock ACL, then during the following fishing year, if the sum of commercial and recreational landings reaches or is projected to reach the stock ACL, the AA will file a notification with the Office of the Federal Register to close the commercial and recreational sectors for the remainder of that fishing year. The stock ACL for lane snapper is 301,000 lb (136,531 kg), round weight.

(12) Gray snapper. If the sum of the commercial and recreational landings, as estimated by the SRD, exceeds the stock ACL, then during the following fishing year, if the sum of commercial and recreational landings reaches or is projected to reach the stock ACL, the AA will file a notification with the Office of the Federal Register to close the commercial and recreational sectors for the remainder of that fishing year. The stock ACL for gray snapper is 2.42 million lb (1.10 million kg), round weight.

(13) Cubera snapper. If the sum of the commercial and recreational landings, as estimated by the SRD, exceeds the stock ACL, then during the following fishing year, if the sum of commercial and recreational landings reaches or is projected to reach the stock ACL, the AA will file a notification with the Office of the Federal Register to close the commercial and recreational sectors for the remainder of that fishing year. The stock ACL for cubera snapper is 5,065 lb (2,297 kg), round weight.

(14) Yellowtail snapper. If the sum of the commercial and recreational landings, as estimated by the SRD, exceeds the stock ACL, then during the following fishing year, if the sum of commercial and recreational landings reaches or is projected to reach the stock ACL, the AA will file a notification with the Office of the Federal Register to close the commercial and recreational sectors for the remainder of that fishing year. The stock ACL for yellowtail snapper is 725,000 lb (328,855 kg), round weight.

(15) Mutton snapper. If the sum of the commercial and recreational landings, as estimated by the SRD, exceeds the stock ACL, then during the following fishing year, if the sum of commercial and recreational landings reaches or is projected to reach the stock ACL, the AA will file a notification with the Office of the Federal Register to close the commercial and recreational sectors for the remainder of that fishing year. The stock ACL for mutton snapper is 203,000 lb (92,079 kg), round weight.

(16) Hogfish. If the sum of the commercial and recreational landings, as estimated by the SRD, exceeds the stock ACL, then during the following fishing year, if the sum of commercial and recreational landings reaches or is projected to reach the stock ACL, the AA will file a notification with the Office of the Federal Register to close the commercial and recreational sectors for the remainder of that fishing year. The stock ACL for hogfish is 208,000 lb (94,347 kg), round weight.

* * * * *

(d) Royal red shrimp in the Gulf. (1) Commercial sector. If commercial landings, as estimated by the SRD, exceed the commercial ACL, then during the following fishing year, if commercial landings reach or are projected to reach the commercial ACL, the AA will file a notification with the Office of the Federal Register to close the commercial sector for the remainder of that fishing year. The commercial ACL for royal red shrimp is 334,000 lb (151,500 kg), tail weight.

(2) [Reserved]

16. In Appendix A to part 622, Table 3 is revised to read as follows:

Appendix A to Part 622—Species Tables

* * * * *

Table 3 of Appendix A to Part 622—Gulf Reef Fish

Balistidae—Triggerfishes

Gray triggerfish, Balistes capriscus

Carangidae—Jacks

Greater amberjack, Seriola dumerili

Lesser amberjack, Seriola fasciata

Almaco jack, Seriola rivoliana

Banded rudderfish, Seriola zonata

Labridae—Wrasses

Hogfish, Lachnolaimus maximus

Lutjanidae—Snappers

Queen snapper, Etelis oculatus

Mutton snapper, Lutjanus analis

Blackfin snapper, Lutjanus buccanella

Red snapper, Lutjanus campechanus

Cubera snapper, Lutjanus cyanopterus

Gray (mangrove) snapper, Lutjanus griseus

Lane snapper, Lutjanus synagris

Silk snapper, Lutjanus vivanus

Yellowtail snapper, Ocyurus chrysurus

Wenchman, Pristipomoides aquilonaris

Vermilion snapper, Rhomboplites aurorubens

Malacanthidae—Tilefishes

Goldface tilefish, Caulolatilus chrysops

Blueline tilefish, Caulolatilus microps

Tilefish, Lopholatilus chamaeleonticeps

Serranidae—Groupers

Speckled hind, Epinephelus drummondhayi

Yellowedge grouper, Epinephelus flavolimbatus

Goliath grouper, Epinephelus itajara

Red grouper, Epinephelus morio

Warsaw grouper, Epinephelus nigritus

Snowy grouper, Epinephelus niveatus

Black grouper, Mycteroperca bonaci

Yellowmouth grouper, Mycteroperca interstitialis

Gag, Mycteroperca microlepis

Scamp, Mycteroperca phenax

Yellowfin grouper, Mycteroperca venenosa

* * * * *

[FR Doc. 2011-27589 Filed 10-24-11; 8:45 am]

BILLING CODE 3510-22-P